DEPARTMENT OF THE INTERIOR

National Park Service

Notice of Extension of Concession Contract; 2410-OYC

AGENCY: National Park Service, Interior.

ACTION: Public notice.

DATES: Effective Date: December 1, 2010.

FOR FURTHER INFORMATION CONTACT: Jo A. Pendry, Chief, Commercial Services Program, National Park Service, 1201 Eye Street, NW., 11th Floor, Washington, DC 20005, Telephone 202/513-7156.

SUMMARY: Pursuant to 36 CFR 51.23, public notice is hereby given that the National Park Service proposes to extend the following expiring concession contract for a period of three years through November 30, 2013.

SUPPLEMENTARY INFORMATION: The listed concession authorization will expire by its terms on November 30, 2010. The National Park Service has determined that the proposed extension is necessary in order to avoid interruption of visitor services and has taken all reasonable and appropriate steps to consider alternatives to avoid such interruption.

Conc ID No. | Concessioner name | Park
YELL077-05 | Xanterra Parks & Resorts, Inc. | Yellowstone National Park.

FOR FURTHER INFORMATION CONTACT: Jo A. Pendry, Chief, Commercial Services Program, National Park Service, 1201 Eye Street, NW., 11th Floor, Washington, DC 20005, Telephone 202/513-7156.

Dated: October 4, 2010.
Katherine H. Stevenson,
Associate Director, Business Services.

[FR Doc. 2010-28705 Filed 11-12-10; 8:45 am]

BILLING CODE 4312-53-P